DEPARTMENT OF TRANSPORTATION

Federal Aviation Administration

14 CFR Parts 21, 23, 25, 29, 33, 36, 47, 49, 60, 61, 67, 73, 91, 97, 101, 107, 121, 125, 129, 135, 141, 183, and 440

[Docket No. FAA-2022-1355; Amdt. Nos. 21-106, 23-65, 25-146, 29-58, 33-1, 36-32, 47-32, 49-11, 60-7, 61-151, 67-22, 73-1, 91-366, 97-1339, 101-9, 107-10, 121-387, 125-72, 129-54, 135-143, 141-24, 183-18, 440-6]

RIN 2120-AL53

Miscellaneous Amendments

AGENCY: Federal Aviation Administration (FAA), Department of Transportation (DOT).

ACTION: Final rule; technical amendments.

SUMMARY: This technical amendment contains non-substantive corrections to address typographical errors, editorial errors, and outdated or incorrect references in various parts of FAA regulations.

DATES: Effective December 9, 2022.

FOR FURTHER INFORMATION CONTACT: For questions concerning this action, contact Jesse Holston, Office of Rulemaking, ARM-200, Federal Aviation Administration, 800 Independence Ave. SW, Washington, DC 20591; telephone (202) 267-0810; email jesse.c.holston@faa.gov.

SUPPLEMENTARY INFORMATION:

I. Good Cause for Immediate Adoption Without Prior Notice

Section 553(b)(3)(B) of the Administrative Procedure Act (APA) (5 U.S.C. 551 et seq.) authorizes agencies to dispense with notice and comment procedures for rules when the agency for “good cause” finds that those procedures are “impracticable, unnecessary, or contrary to the public interest.” Under this section, an agency, upon finding good cause, may issue a final rule without seeking comment prior to the rulemaking.

Additionally, the APA requires agencies to delay the effective date of regulations for 30 days after publication, unless the agency finds good cause to make the regulations effective sooner. See, 5 U.S.C. 553(d). This action makes technical amendments that affect the clarity of existing regulations. These amendments will not impose any additional substantive restrictions or requirements on the persons affected by these regulations. Because this action merely makes technical amendments, the FAA finds that notice and public comment under 5 U.S.C. 553(b) is unnecessary. For the same reason, the FAA finds that good cause exists under 5 U.S.C. 553(d) for making this rule effective in less than 30 days.

II. Authority for This Rulemaking

The FAA's authority to issue rules is found in title 49 of the United States Code. Subtitle I, section 106 describes the authority of the FAA Administrator. This rulemaking is promulgated under the authority described in 49 U.S.C. 106(f) and (g), which establish the authority of the Administrator to promulgate and revise regulations and rules related to aviation safety. This regulation is within the scope of that authority because the rule makes non-substantive edits to regulations related to aviation safety promulgated under authorities listed in 49 U.S.C. 106(g).

Portions of this rulemaking are also authorized under 51 U.S.C. 50903(c), which authorizes the promulgation of regulations related to commercial space launches and reentries.

III. Technical Amendments

The FAA is making technical amendments to parts 21, 23, 25, 29, 33, 36, 47, 49, 60, 61, 67, 73, 91, 97, 101, 107, 121, 125, 129, 135, 141, 183, and 440 of those regulations found in Title 14 of the Code of Federal Regulations. All amendments are non-substantive and correct typographical errors, editorial errors, and outdated or incorrect references. The following is a summary of the various amendments to each of the above-listed parts.

Part 21

In § 21.619(a), permits the manufacturer of an article under a Technical Standard Order (TSO) authorization to make a minor design change without FAA approval, so long as the manufacturer forwards to the FAA any revised data necessary for compliance with the application requirements in § 21.603. However, the reference to § 21.603(b) is incorrect, as that section addresses the use of open brackets to identify minor changes. The correct reference is to § 21.603(a), which contains the requirements to include a statement of conformity and required technical data in an application for TSO authorization.

Part 23

In the following sections, the FAA corrects minor typographical and grammatical errors: §§ 23.2115(c), 23.2165(a)(1)(i), 23.2200(d), 23.2315(a), 23.2440(c)(2), 23.2520(a), and 23.2620(b).

In § 23.2120(a), the word “configuration” is removed and replaced with the word “configuration(s)” to clarify that there could be multiple initial climb configurations.

In § 23.2255(c), the word “aircraft” is removed and replaced with the word “airplane” for consistency with this section and part 23, which sets forth airworthiness standards for normal category airplanes.

In § 23.2400(b), the word “FAA” is removed and replaced with the word “Administrator” to align with 49 U.S.C. 44704, which identifies that the Administrator issues type certificates. In § 23.2500(b), the change clarifies that the reference to paragraph (a) refers to paragraph (a) of § 23.2500. Additional updates are made to punctuation for clarity.

In § 23.2600(b), the term “qualified flightcrew” is removed and replaced with “flightcrew members” to clarify that the term “qualified flightcrew” was not intended to have a different meaning than the term “flightcrew member” as defined in 14 CFR part 1.¹

¹ See 81 FR 96572 (Dec. 30, 2016).

Part 25

In § 25.471(b)(2), the reference to paragraph (c)(1) of § 25.1583 is no longer accurate because § 25.1583 was subsequently revised, and the paragraph numbering changed.² Thus, § 25.471(b)(2) is corrected to refer to § 25.1583(c)(2).

² See 43 FR 4302 (Jan. 16, 1978).

In § 25.525(b), the reference to “§ 25.533(b)” is incorrect and is replaced with a reference to “25.533(c)”. Section 25.533(b) provides local pressures rather than distributed pressures, which are the proper pressures to calculate distributed loads as described in § 25.525(b). The distributed pressures are provided in § 25.533(c).

In § 25.535(d), the number “3.25” is incorrect and is replaced with the number “0.25” as originally stated in the final rule.³

³ See 29 FR 18289 (Dec. 24, 1964).

In § 25.571, the FAA corrects a minor typographical error.

In § 25.903(a)(3)(ii), the effective date of § 33.68 is corrected to read “March 26, 1984” because that is the effective date of Amendment 33-10.

In § 25.903(a)(3)(iii), the effective date of § 33.68 is corrected to read “October 31, 1974” because that is the effective date of Amendment 33-6.

In § 25.1517(b), the term “VMO—35 KTAS” is removed and replaced with “VMO minus 35 KTAS” to clarify that the “-” symbol was logically intended to be a minus sign and not a dash.

Part 29

In § 29.1557(d), the cross reference to § 29.811(h)(2), which does not exist, is replaced with the correct cross reference, § 29.811(f)(2).

Part 33

In § 33.97(a), a comma is added between the words “endurance” and “calibration” to clarify that both endurance tests and calibration tests are required to evaluate thrust reversers and are separate tests.

Part 36

In § 36.1(a)(4), a spelling error is corrected.

Part 47

Section 47.9(b) differentiates aircraft registered prior to January 1, 1980 and aircraft registered after 1980. As the aircraft registration dates for all aircraft currently on the registry are after January 1, 1980, this differentiation is no longer necessary. The FAA has revised § 47.9(b), (b)(1) and (b)(2) to remove the reference to January 1, 1980 and make conforming changes resulting from the removal of such reference.

In § 47.19, the phrase “must be mailed to the Registry, Department of Transportation, Post Office Box 25504, Oklahoma City, Oklahoma 73125-0504, or delivered to the Registry at 6425 S. Denning Ave., Oklahoma City, Oklahoma 73169,” is removed and replaced with, “must be delivered to the Registry by a means acceptable to the Administrator,” to conform to the Registry's current practice of accepting digitally signed documents and communications by email as an alternative to delivery of hard copies, as well as submission of documents and communications by other means acceptable to the Administrator.

Part 49

In § 49.1(a)(2), the horsepower threshold for aircraft engines incorrectly references 750 and is corrected to 550 consistent with § 49.41.⁴

⁴ See 70 FR 239 (Jan. 3, 2005).

Section 49.11 is revised to conform to the Registry's current practice of accepting digitally signed documents by email in addition to accepting delivery of hard copies or acceptance of delivery by other means.

In § 49.13(a), the phrase “must be in ink” is removed and replaced with “must be signed in a manner acceptable to the Administrator,” to conform to the Registry's continued acceptance of digital signatures.⁵

⁵ Notice of Policy Clarification for Acceptance of Documents With Digital Signatures by the Federal Aviation Administration Aircraft Registry, 81 FR 23348, (April 20, 2016).

Part 60

Part 60 has multiple references to the “National Simulator Program Manager”, “NSPM”, and “NSP”. This office and manager position no longer exist by those names due to the reorganization of the Air Transportation Division. Thus, this technical amendment updates all of these references by deleting or replacing them with “responsible Flight Standards office”, “Flight Standards Service”, or “FAA”, as appropriate. Further, references to outdated websites, references to outdated contact information, and incorrect numbering are corrected.

The following table identifies the nomenclature changes in 14 CFR part 60 to account for the reorganization of the Air Transportation Division:

Table 1—Revised Nomenclature and Affected Sections of 14 CFR Part 60
Old nomenclature/current CFR | New nomenclature/revision | Affected sections of 14 CFR part 60
National Simulator Program Manager (NSPM) | responsible Flight Standards office | § 60.5, Attachment 6 to Appendix A to Part 60.
NSPM | responsible Flight Standards office | § 60.5, § 60.7, § 60.9, § 60.11, § 60.13, § 60.14, § 60.15, § 60.16, § 60.17, § 60.19, § 60.21, § 60.23, § 60.25, § 60.27, § 60.29, § 60.31, § 60.37, Appendix A to Part 60, Attachment 1 to Appendix A to Part 60, Attachment 2 to Appendix A to Part 60, Attachment 3 to Appendix A to Part 60, Attachment 5 to Appendix A to Part 60, Attachment 6 to Appendix A to Part 60, Appendix B to Part 60, Attachment 1 to Appendix B to Part 60, Attachment 2 to Appendix B to Part 60, Appendix C to Part 60, Attachment 1 to Appendix C to Part 60, Attachment 2 to Appendix C to Part 60, Attachment 3 to Appendix C to Part 60, Appendix D to Part 60, Attachment 1 to Appendix D to Part 60, Attachment 2 to Appendix D to Part 60, Attachment 3 to Appendix D to Part 60, Appendix E to Part 60, Appendix F to Part 60.
NSPM | the responsible Flight Standards office | § 60.19, Attachment 2 to Appendix A to Part 60, Attachment 2 to Appendix C to Part 60.
an NSPM | a responsible Flight Standards office | § 60.19.
NSPM | Flight Standards Service | Appendix A to Part 60, Attachment 2 to Appendix A to Part 60, Appendix C to Part 60, Appendix D to Part 60.
NSPM, or a person assigned by the NSPM | responsible Flight Standards office | Appendix A to Part 60, Appendix C to Part 60.
an NSP pilot | a pilot from the responsible Flight Standards office | Appendix A to Part 60, Appendix B to Part 60, Appendix C to Part 60, Appendix D to Part 60.
NSPM or visit the NSPM Web site | responsible Flight Standards office | Appendix A to Part 60, Appendix B to Part 60, Appendix C to Part 60, Appendix D to Part 60.
FAA FSDO | responsible Flight Standards office | Appendix A to Part 60, Appendix B to Part 60, Appendix C to Part 60, Appendix D to Part 60.
NSPM, or a person or persons assigned by the NSPM | responsible Flight Standards office | Appendix B to Part 60, Appendix D to Part 60.
NSP | FAA | Attachment 2 to Appendix B to Part 60.

In addition to the above nomenclature changes, this technical amendment makes several other minor technical changes to 14 CFR part 60.

In appendices A, B, C, and D to part 60, paragraph 1. Introduction, the following changes are made to reflect the reorganization of the Air Transportation Division:

• Removed paragraph b.;

• Removed the last sentence of paragraph c.;

• Added “Flightcrew Member” after “as amended,” in appendix A, paragraph d.(12); appendix B, paragraph d.(12); appendix C, paragraph d.(10); and appendix D, paragraph d.(12); and

• Removed the phrase “FAA Airman Testing Standards for the Airline Transport Pilot Certificate, Type Ratings, Commercial Pilot Certificate, and Instrument Ratings.” and replaced with “FAA Airman Certification Standards and Practical Test Standards for Airline Transport Pilot, Type Ratings, Commercial Pilot, and Instrument Ratings.” in appendix A, paragraph d.(27); appendix B, paragraph d.(26); appendix C, paragraph d.(25); and appendix D, paragraph d.(28).

“NSP” is removed from the following places to reflect the reorganization of the Air Transportation Division:

• Appendix A;

• Attachment 3 to appendix A;

• Appendix B;

• Attachment 3 to appendix B;

• Appendix C;

• Attachment 3 to appendix C;

• Appendix D; and

• Attachment 3 to appendix D.

In attachment 3 to appendix A, 2. Discussion, the last sentence of paragraph g. is removed to reflect the reorganization of the Air Transportation Division.

In the following Figures, the letter heading addressed to “Edward D. Cook” is removed because it is outdated contact information that is no longer accurate:

• Attachment 4 to appendix A, Figure A4A; and

• Attachment 4 to appendix B, Figure B4A.

In the following Figures, “FAA National Simulator Program” is removed to reflect the reorganization of the Air Transportation Division:

• Attachment 4 to appendix A, Figure A4C;

• Attachment 4 to appendix B, Figure B4C;

• Attachment 4 to appendix C, Figure C4C; and

• Attachment 4 to appendix D, Figure D4C.

In the following Figures, “Manager, National Simulator Program” is removed to reflect the reorganization of the Air Transportation Division:

• Attachment 4 to appendix A, Figure A4D;

• Attachment 4 to appendix B, Figure B4D;

• Attachment 4 to appendix C, Figure C4D; and

• Attachment 4 to appendix D, Figure D4D.

In the following Figures, “National Simulator Program” and “NSPM” are removed and replaced with “FAA” to reflect the reorganization of the Air Transportation Division:

• Attachment 4 to appendix A, Figure A4E;

• Attachment 4 to appendix B, Figure B4E;

• Attachment 4 to appendix C, Figure C4E; and

• Attachment 4 to appendix D, Figure D4E.

“NSP's” is removed from attachment 6 to appendix A to reflect the reorganization of the Air Transportation Division.

“NSPM” is removed from the second sentence of appendix B to reflect the reorganization of the Air Transportation Division.

In attachment 3 to appendix C, the last sentence of the first paragraph h. is removed to reflect the reorganization of the Air Transportation Division. Also, the second paragraph h. is redesignated as paragraph i. and paragraph i. is redesignated as paragraph j.

In the following Figures, the letter heading addressed to “Charles A. Spillner” is removed because it is outdated contact information that is no longer accurate:

• Attachment 4 to appendix C, figure C4A; and

• Attachment 4 to appendix D, figure D4A.

In appendix D, 17. Modifications to FTDs, an incorrect reference is updated.

In appendix E, paragraph i.(4) is removed and “NSPM” is removed from paragraphs h.(1) and h.(2) to reflect the reorganization of the Air Transportation Division.

In appendix F, the definition for “National Simulator Program Manager (NSPM)” is removed and the abbreviation “NSPM” is removed to reflect the reorganization of the Air Transportation Division.

In the Flight Simulation Training Device Qualification Standards for Extended Envelope and Adverse Weather Event Training Tasks Final Rule, the FAA removed Figure A4H Sample Continuing Qualification Evaluation Requirements Page from attachment 4 to appendix A because the final rule amendment to § 60.19 made the figure obsolete and unnecessary. This same figure should have also been removed from Appendices B-D for the same reason. Thus, the following changes are made:

• In attachment 4 to appendix B, figure B4H is removed and the table of contents is updated accordingly;

• In attachment 4 to appendix C, figure C4H is removed and the table of contents is updated accordingly; and

• In attachment 4 to appendix D, figure D4H is removed and the table of contents is updated accordingly.

In the Flight Simulation Training Device Qualification Standards for Extended Envelope and Adverse Weather Event Training Tasks Final Rule, the FAA added Level 7 FTDs to appendix B. However, the first sentence in this appendix does not include Level 7. Thus, in the first sentence of appendix B, the phrase “or Level 6” is replaced with “Level 6, or Level 7”.

Part 61

In § 61.58, paragraphs (j) and (k) are removed because the October 12, 2012, time limitation has passed and accordingly, those paragraphs are now obsolete.

The FAA also corrects a spelling error in § 61.313(h).

Part 67

A mailing address is updated in §§ 67.4 and 67.409(a). Additionally, in § 67.409(a) a requirement that a duplicate document be submitted is removed because these documents are no longer reviewed in hardcopy.

Part 73

This technical amendment updates office titles in § 73.19(a) and (c) to reflect reorganization within the FAA. It also updates the FAA headquarters address in § 73.19(a) and replaces the word “shall” with “must” in § 73.19(a), (b) and (c).

Part 91

In § 91.9(c), “or part 48” is added to indicate that an aircraft operating under part 91 may also be marked under part 48. This change aligns this provision with § 91.203(a)(2).

In § 91.157(b)(4), aimed to specifically qualify daytime in Alaska because the time between sunrise and sunset is often a longer duration of time than in most of the United States. However, in a 1991 final rule, the FAA stated that daytime in Alaska is “when the sun is 6° or more above the horizon”. 56 FR 65660 (Dec. 17, 1991). According to the Air Almanac, issued annually by the United States Naval Observatory, civil twilight (daytime) begins and ends when the sun is 6 degrees below the horizon. As such, civil twilight (daytime) is any time when the sun is 6 degrees or less below the horizon. In 1995, the FAA issued a technical amendment to correct the regulatory text to accurately capture daytime in Alaska amending it to state “when the sun is 6 degrees or more below the horizon”. 60 FR 66874 (Dec. 27, 1995). However, this correction was inaccurate as more than 6 degrees below the horizon is nighttime. This technical amendment is meant to achieve the original intent to refer to daytime in Alaska by amending the language to read “when the sun is 6 degrees or less below the horizon”.

In § 91.203(a)(1), “or part 48” is added to indicate that an aircraft operating under part 91 may also be marked under part 48. This change aligns this provision with § 91.203(a)(2).

In § 91.511(a), the phrase “operating under this subpart” is added to clarify who is subject to the prohibition.

In § 91.609(g), “49 CFR” is added prior to “part 830” everywhere that it appears to clarify which title of the CFR is being referenced.

In § 91.1001(b)(9), the reference to “paragraph (b)(1)(v)” is incorrect because no such paragraph exists. The reference to “paragraph (b)(1)(v)” is replaced with the correct reference to “paragraph (b)(5)(vi)”, which addresses multi-year program agreements.

Part 97

In § 97.20(b), the FAA updates a mailing address and email address.

Part 101

In § 101.21(a), the reference to paragraph “§ 101.25(b)(7)(ii)” is removed and replaced with the correct reference, “§ 101.25(g)(2)”, due to a technical amendment to § 101.25.⁶

⁶ See 74 FR 38092 (July 31, 2009).

Part 107

In § 107.9, the word “accident” in the title is removed and replaced with the words “safety event” to eliminate confusion and to distinguish it from the statutory authority afforded exclusively to the National Transportation Safety Board published in 49 U.S.C. 1101.

Part 121

In §§ 121.310(b)(2)(iii), 121.311(b)(2)(ii)(C), 121.391(d), § 121.523(c), the FAA corrects typographical, grammatical, and spelling errors.

In §§ 121.359(h) and 121.703(f), “49 CFR” is added prior to “part 830” everywhere that it appears to clarify which title of the CFR is being referenced.

In § 121.909(a) and § 121.923(a)(2), the phrase “through the FAA office responsible for approval of the certificate holder's operations specifications, to the Manager of the Air Transportation Division” is removed and replaced with “to the responsible Flight Standards office” to reflect the reorganization in the Air Transportation Division.

In § 121.1115(f), Table 2, Bombardier: BD-700, the acronym “FH”, which stood for flight hours, is removed because it is incorrect and it is replaced with the correct acronym, “FC”, which stands for flight cycles. Bombardier submitted information to the FAA to establish that the default limit of validity is 15,000 flight cycles rather than flight hours for the Bombardier Model BD-700; however, the FAA inadvertently used the acronym “FH” when listing the default LOV for the Bombardier Model BD-700 in Table 2.

Part 125

In § 125.285(d), the reference to “(c)(3)” is removed because it is incorrect and it is replaced with the correct reference, “(c)(2)”, which prescribes the observation of landings.

Part 129

The FAA corrects a spelling error in § 129.18(b). In § 129.115(f), Table 2, Bombardier: BD-700, the FAA removes the acronym “FH”, which stood for flight hours because it is incorrect and it is replaced with the correct acronym, “FC”, which stands for flight cycles. Bombardier submitted information to the FAA to establish that the default limit of validity is 15,000 flight cycles rather than flight hours for the Bombardier Model BD-700; however, the FAA inadvertently used the acronym “FH” when listing the default LOV for the Bombardier Model BD-700 in Table 2.

Part 135

In § 135.415(f), “49 CFR” is added prior to “part 830” to clarify which title of the CFR is being referenced.

Part 141

In a final rule published in the Federal Register on August 21, 2009 (74 FR 42499), Pilot, Flight Instructor, and Pilot School Certification, the FAA revised paragraph 4 of appendix I to 14 CFR part 141, to change the presentation of information in response to confusion about what is the amount of ground and flight training required for an add-on category and/or class rating course. In the process of changing the presentation of this information, the FAA inadvertently omitted the existing training requirements for an additional glider category rating for holders of a commercial pilot certificate. By correcting this typographical error, this technical amendment provides these existing requirements by specifying the required contents of such training programs.

In a final rule published in the Federal Register on June 27, 2018 (83 FR 30232), Regulatory Relief: Aviation Training Devices; Pilot Certification, Training, and Pilot Schools; and Other Provisions, the FAA inadvertently failed to revise part 141 appendix I, to allow the use of a technically advanced airplane (TAA) to satisfy the experience requirements, for those pilot applicants who would add category and class (specifically, Airplane Single Engine) to an existing Commercial Pilot Certificate. The original proposal was to provide relief to all regulated entities providing flight training for the Commercial Pilot Certificate with single engine land rating under any applicable rule part, including part 141, appendix I. This was an inadvertent omission and has caused some confusion and concern within the flight training community. With that understanding, the FAA is providing a technical amendment to paragraph 4.(a)(3)(ii) of appendix I to part 141 to otherwise permit the use of a complex airplane, turbine-powered airplane, or a technically advanced airplane to meet the experience requirement.

Part 183

The FAA is making updates to part 183 which are necessary to reflect organizational changes within the FAA. The Administrator established the Air Traffic Safety Oversight Service (AOV) within the Aviation Safety Organization (AVS) to provide independent oversight of the Air Traffic Organization in 2004. In 2006, the Administrator gave AOV the authority to manage the Control Tower Operator Certification Program but did not update part 183 to reflect this organizational change. Due to these changes, the FAA is revising §§ 183.11(d) and 183.25(c)(2) to replace “the Associate Administrator for Air Traffic” with “the Associate Administrator for Aviation Safety”. Additionally, §§ 183.11(d) and 183.25(c) will specify that the air traffic control tower operator examiner is “designated” to be consistent with the terminology used for other positions involving delegated authority under 49 U.S.C. 44702(d).

Part 440

In § 440.19, this technical amendment restores paragraphs (a)(1) and (a)(2) which were inadvertently deleted from this section in a 2012 technical amendment.⁷

⁷ Correction of Authority Citations for Commercial Space Transportation, 77 FR 20531, April 5, 2012.

IV. Regulatory Notices and Analyses

Federal agencies consider impacts of regulatory actions under a variety of executive orders and other requirements. First, Executive Order 12866 and Executive Order 13563 direct that each Federal agency shall propose or adopt a regulation only upon a reasoned determination that the benefits of the intended regulation justify the costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. Fourth, the Unfunded Mandates Reform Act of 1995 (Pub. L. 104-4) requires agencies to prepare a written assessment of the costs, benefits, and other effects of proposed or final rules that include a Federal mandate that may result in the expenditure by State, local, and tribal governments, in the aggregate, or by the private sector, of $100,000,000 or more (adjusted annually for inflation) in any one year. The current threshold after adjustment for inflation is $165,000,000, using the most current (2021) Implicit Price Deflator for the Gross Domestic Product. This portion of the preamble summarizes the FAA's analysis of the economic impacts of this rule.

In conducting these analyses, the FAA has determined that this rule: will result in benefits that justify costs; is not a “significant regulatory action” as defined in section 3(f) of Executive Order 12866; will not create unnecessary obstacles to the foreign commerce of the United States; and will not impose an unfunded mandate on State, local, or tribal governments, or on the private sector.

A. Regulatory Impact Analysis

This final rule corrects several technical errors that affect the clarity of the regulatory text. As all the amendments in this final rule are non-substantive and intended to correct typographical errors, editorial errors, and outdated or incorrect references, the FAA does not expect that these technical corrections will result in any substantive incremental costs or benefits. These changes include corrections of grammatical and typographical errors, corrections of incorrect cross references, updates to mailing addresses and contact information, and updates to terms and titles following the reorganization or the Air Transportation Division. Since this rule involves non-substantive and clarifying editorial changes only, the impacts of the rule will be minimal.

B. Regulatory Flexibility Act

The Regulatory Flexibility Act (RFA), in 5 U.S.C. 603, requires an agency to prepare an initial regulatory flexibility analysis describing impacts on small entities whenever 5 U.S.C. 553 or any other law requires an agency to publish a general notice of proposed rulemaking for any proposed rule. Similarly, 5 U.S.C. 604 requires an agency to prepare a final regulatory flexibility analysis when an agency issues a final rule under 5 U.S.C. 553, after that section or any other law requires publication of a general notice of proposed rulemaking. The FAA concludes good cause exists to forgo notice and comment and to not delay the effective date for this rule. As 5 U.S.C. 553 does not require notice and comment in this situation, 5 U.S.C. 603 and 604 similarly do not require regulatory flexibility analyses.

C. International Trade Impact Assessment

The Trade Agreements Act of 1979 (Pub. L. 96-39), as amended, prohibits Federal agencies from establishing standards or engaging in related activities that create unnecessary obstacles to the foreign commerce of the United States. Pursuant to this Act, the establishment of standards is not considered an unnecessary obstacle to the foreign commerce of the United States, so long as the standard has a legitimate domestic objective, such as the protection of safety, and does not operate in a manner that excludes imports that meet this objective. The statute also requires consideration of international standards and, where appropriate, that they be the basis for U.S. standards.

The FAA has assessed the potential effect of this rule and has determined that the rule is in accord with the Trade Agreements Act as the rule applies equally to domestic and foreign persons engaged in aviation activities under 14 CFR. As previously discussion, this action corrects several technical errors that affect the clarity of the regulatory text. These corrections will not impose any additional substantive restrictions or requirements on the persons affected by these regulations.

D. Unfunded Mandates Assessment

The Unfunded Mandates Reform Act of 1995 (2 U.S.C. 1531-1538) governs the issuance of Federal regulations that require unfunded mandates. An unfunded mandate is a regulation that requires a state, local, or tribal government or the private sector to incur direct costs without the Federal government having first provided the funds to pay those costs. The FAA determined that the rule will not result in the expenditure of $165,000,000 or more by State, local, or tribal governments, in the aggregate, or the private sector, in any one year.

E. Paperwork Reduction Act

The Paperwork Reduction Act of 1995 (44 U.S.C. 3507(d)) requires that the FAA consider the impact of paperwork and other information collection burdens imposed on the public. The FAA has determined that there is no new requirement for information collection associated with this immediately adopted final rule.

F. International Compatibility

In keeping with U.S. obligations under the Convention on International Civil Aviation, it is FAA policy to conform to International Civil Aviation Organization (ICAO) Standards and Recommended Practices to the maximum extent practicable. The FAA has reviewed the corresponding ICAO Standards and Recommended Practices and has identified no differences with these proposed regulations.

G. Environmental Analysis

FAA Order 1050.1F identifies FAA actions that are categorically excluded from preparation of an environmental assessment or environmental impact statement under the National Environmental Policy Act in the absence of extraordinary circumstances. The FAA has determined this rulemaking action qualifies for the categorical exclusion identified in paragraph 5-6.6(f) for regulations and involves no extraordinary circumstances.

V. Executive Order Determinations

A. Executive Order 13132, Federalism

The FAA has analyzed this immediately adopted final rule under the principles and criteria of Executive Order 13132, “Federalism.” The agency determined that this action will not have a substantial direct effect on the States, or the relationship between the Federal Government and the States, or on the distribution of power and responsibilities among the various levels of government, and, therefore, does not have Federalism implications.

B. Executive Order 13211, Regulations That Significantly Affect Energy Supply, Distribution, or Use

The FAA analyzed this immediately adopted final rule under Executive Order 13211, “Actions Concerning Regulations that Significantly Affect Energy Supply, Distribution, or Use” (May 18, 2001). The agency has determined that it is not a “significant energy action” under the executive order and it is not likely to have a significant adverse effect on the supply, distribution, or use of energy.

C. Executive Order 13609, International Cooperation

Executive Order 13609, “Promoting International Regulatory Cooperation,” promotes international regulatory cooperation to meet shared challenges involving health, safety, labor, security, environmental, and other issues and to reduce, eliminate, or prevent unnecessary differences in regulatory requirements. The FAA has analyzed this action under the policies and agency responsibilities of Executive Order 13609, and has determined that this action would have no effect on international regulatory cooperation.

VI. How To Obtain Additional Information

A. Rulemaking Documents

An electronic copy of a rulemaking document may be obtained from the internet by—

1. Searching the Federal eRulemaking Portal (www.regulations.gov);

2. Visiting the FAA's Regulations and Policies web page at www.faa.gov/regulations_policies/; or

3. Accessing the Government Printing Office's web page at www.GovInfo.gov.

Copies may also be obtained by sending a request (identified by notice, amendment, or docket number of this rulemaking) to the Federal Aviation Administration, Office of Rulemaking, ARM-1, 800 Independence Avenue SW, Washington, DC 20591, or by calling (202) 267-9680.

B. Small Business Regulatory Enforcement Fairness Act

The Small Business Regulatory Enforcement Fairness Act (SBREFA) of 1996 requires FAA to comply with small entity requests for information or advice about compliance with statutes and regulations within its jurisdiction. A small entity with questions regarding this document, may contact its local FAA official, or the person listed under the FOR FURTHER INFORMATION CONTACT heading at the beginning of the preamble. To find out more about SBREFA on the internet, visit www.faa.gov/regulations_policies/rulemaking/sbre_act/.

List of Subjects

14 CFR Part 21

Aircraft, Aviation safety, Exports, Imports, Reporting and recordkeeping requirements.

14 CFR Part 23

Aircraft, Aviation safety, Signs and symbols.

14 CFR Part 25

Aircraft, Aviation safety, Reporting and recordkeeping requirements.

14 CFR Part 29

Aircraft, Aviation safety, Reporting and recordkeeping requirements.

14 CFR Part 33

Aircraft, Aviation safety, Reporting and recordkeeping requirements.

14 CFR Part 36

Agriculture, Aircraft, Noise control.

14 CFR Part 47

Aircraft, Reporting and recordkeeping requirements.

14 CFR Part 49

Aircraft, Reporting and recordkeeping requirements.

14 CFR Part 60

Airmen, Aviation safety, Reporting and recordkeeping requirements.

14 CFR Part 61

Aircraft, Airmen, Alcohol abuse, Aviation safety, Drug abuse, Recreation and recreation areas, Reporting and recordkeeping requirements, Security measures, Teachers.

14 CFR Part 67

Airmen, Authority delegations (Government agencies), Health, Reporting and recordkeeping requirements.

14 CFR Part 73

Airspace, Navigation (air), Restricted areas, Security measures.

14 CFR Part 91

Afghanistan, Agriculture, Air carriers, Air taxis, Air traffic control, Aircraft, Airmen, Airports, Alaska, Aviation safety, Canada, Charter flights, Cuba, Drug traffic control, Ethiopia, Freight, Incorporation by reference, Iraq, Libya, Mexico, Noise control, North Korea, Political candidates, Reporting and recordkeeping requirements, Security measures, Somalia, Syria, Transportation, Yugoslavia.

14 CFR Part 97

Air traffic control, Airports, Incorporation by reference, Navigation (air), Weather.

14 CFR Part 101

Aircraft, Aviation safety, Reporting and recordkeeping requirements.

14 CFR Part 107

Aircraft, Airmen, Aviation safety, Recreation and recreation areas, Reporting and recordkeeping requirements, Security measures, Signs and symbols.

14 CFR Part 121

Air carriers, Aircraft, Airmen, Alcohol abuse, Aviation safety, Charter flights, Drug abuse, Drug testing, Reporting and recordkeeping requirements, Safety, Transportation.

14 CFR Part 125

Aircraft, Airmen, Aviation safety, Reporting and recordkeeping requirements.

14 CFR Part 129

Air carriers, Administration, Aircraft, Aviation safety, Reporting and recordkeeping requirements, Security measures, Smoking.

14 CFR Part 135

Air taxis, Aircraft, Airmen, Alcohol abuse, Aviation safety, Drug abuse, Drug testing, Reporting and recordkeeping requirements.

14 CFR Part 141

Airmen, Educational facilities, Reporting and recordkeeping requirements, Schools.

14 CFR Part 183

Aircraft, Airmen, Authority delegations (Government agencies), Health professions, Reporting and recordkeeping requirements.

14 CFR Part 440

Indemnity payments, Insurance, Reporting and recordkeeping requirements, Space transportation and exploration.

The Amendments

In consideration of the foregoing, the Federal Aviation Administration amends chapter I of title 14, Code of Federal Regulations (CFR) parts 21, 23, 25, 29, 33, 36, 47, 49, 60, 61, 67, 73, 91, 97, 101, 107, 121, 125, 129, 135, 141, 183, and 440 as follows:

PART 21—CERTIFICATION PROCEDURES FOR PRODUCTS AND ARTICLES

1. The authority citation for part 21 continues to read as follows:

Authority: 42 U.S.C. 7572; 49 U.S.C. 106(f), 106(g), 40105, 40113, 44701-44702, 44704, 44707, 44709, 44711, 44713, 44715, 45303.

§ 21.619 [Amended]

2. Amend § 21.619 in paragraph (a) by removing the citation “§ 21.603(b)” and adding in its place the citation “21.603(a)”.

PART 23—AIRWORTHINESS STANDARDS: NORMAL CATEGORY AIRPLANES

3. The authority citation for part 23 continues to read as follows:

Authority: 49 U.S.C. 106(f), 106(g), 40113, 44701-44702, 44704, Pub. L. 113-53, 127 Stat. 584 (49 U.S.C. 44704) note.

§ 23.2115 [Amended]

4. Amend § 23.2115 in paragraph (c) introductory text by adding the word “of” after the word “determination”.

§ 23.2120 [Amended]

5. Amend § 23.2120 in paragraph (a) introductory text by removing the word “configuration” and adding in its place the word “configuration(s)”.

§ 23.2165 [Amended]

6. Amend § 23.2165 in paragraph (a)(1)(i) by removing the words “knots CAS” and adding in their place the word “KCAS”.

§ 23.2200 [Amended]

7. Amend § 23.2200 in paragraph (d) by removing the words “high lift” and adding in their place the words “high-lift”.

§ 23.2255 [Amended]

8. Amend § 23.2255 in paragraph (c) by removing the word “aircraft” and adding in its place the word “airplane”.

§ 23.2315 [Amended]

9. Amend § 23.2315 as follows:

a. In paragraph (a)(1), add a comma after the words “level 2”;

b. In paragraph (a)(1), remove the words “single engine” and add in its place “single-engine”; and

c. In paragraph (a)(2), add a comma after the first mention of the word “exits”.

§ 23.2400 [Amended]

10. Amend § 23.2400 in paragraph (b) by removing both instances of “FAA” and adding in their places the word “Administrator”.

11. Amend § 23.2440 by revising paragraph (c)(2) to read as follows:

§ 23.2440 Powerplant fire protection.

* * * * *

(c) * * *

(2) Be fire-resistant if carrying flammable fluid, gas or air, or is required to operate in the event of a fire; and

* * * * *

§ 23.2500 [Amended]

12. Amend § 23.2500 in paragraph (b) by removing the phrase “(a), considered separately and in relation to other systems, must” and adding in its place the phrase “(a) of this section—considered separately and in relation to other systems—must”.

§ 23.2520 [Amended]

13. Amend § 23.2520 in paragraph (a) introductory text by removing the phrase “systems that perform” and adding in its place the phrase “system that performs”.

§ 23.2600 [Amended]

14. Amend § 23.2600 in paragraph (b) by removing the words “qualified flightcrew” and adding in their place the words “flightcrew members”.

§ 23.2620 [Amended]

15. Amend § 23.2620 in paragraph (b) introductory text by removing the word “administrator” and adding in its place the word “Administrator”.

PART 25—AIRWORTHINESS STANDARDS: TRANSPORT CATEGORY AIRPLANES

16. The authority citation for part 25 continues to read as follows:

Authority: 49 U.S.C. 106(f), 106(g), 40113, 44701, 44702 and 44704.

§ 25.471 [Amended]

17. Amend § 25.471 in paragraph (b)(2) by removing the citation “§ 25.1583(c)(1)” and adding in its place the citation “§ 25.1583(c)(2)”.

§ 25.525 [Amended]

18. Amend § 25.525 in paragraph (b) by removing the citation “§ 25.533(b)” and adding in its place the citation “§ 25.533(c)”.

§ 25.535 [Amended]

19. Amend § 25.535 in paragraph (d) by removing the numbers “3.25” and adding in their place the numbers “0.25”.

20. Amend § 25.571 by revising the section heading to read as follows:

§ 25.571 Damage-tolerance and fatigue evaluation of structure.

* * * * *

§ 25.903 [Amended]

21. Amend § 25.903 as follows:

a. In paragraph (a)(3)(ii), remove the date “February 23, 1984” and add in its place the date “March 26, 1984”; and

b. In paragraph (a)(3)(iii), remove the date “October 1, 1974”and add in its place the date “October 31, 1974”.

§ 25.1517 [Amended]

22. Amend § 25.1517 in paragraph (b) by removing “VMO - 35 KTAS” and adding in its place “VMO minus 35 KTAS”.

PART 29—AIRWORTHINESS STANDARDS: TRANSPORT CATEGORY ROTOCRAFT

23. The authority citation for part 29 continues to read as follows:

Authority: 49 U.S.C. 106(f), 106(g), 40113, 44701-44702, 44704.

§ 29.1557 [Amended]

24. Amend § 29.1557 in paragraph (d) by removing the citation “§ 29.811(h)(2)” and adding in its place the citation “§ 29.811(f)(2)”.

PART 33—AIRWORTHINESS STANDARDS: AIRCRAFT ENGINES

25. The authority citation for part 33 continues to read as follows:

Authority: 49 U.S.C. 106(g), 40113, 44701, 44702, 44704.

§ 33.97 [Amended]

26. Amend § 33.97 in paragraph (a) by adding a comma after the word “endurance” in the first sentence.

PART 36—NOISE STANDARDS: AIRCRAFT TYPE AND AIRWORTHINESS CERTIFICATION

27. The authority citation for part 36 continues to read as follows:

Authority: 42 U.S.C. 4321 et seq.; 49 U.S.C. 106(g), 40113, 44701-44702, 44704, 44715; sec. 305, Pub. L. 96-193, 94 Stat. 50, 57; E.O. 11514, 35 FR 4247, 3 CFR, 1966-1970 Comp., p. 902.

§ 36.1 [Amended]

28. Amend § 36.1 in paragraph (a)(4) by removing the word “argicultural” and adding in its place the word “agricultural”.

PART 47—AIRCRAFT REGISTRATION

29. The authority citation for part 47 continues to read as follows:

Authority: 4 U.S.T. 1830; Public Law 108-297, 118 Stat. 1095 (49 U.S.C. 40101 note, 49 U.S.C. 44101 note); 49 U.S.C. 106(f), 106(g), 40113-40114, 44101-44108, 44110-44113, 44703-44704, 44713, 45302, 45305, 46104, 46301.

30. Amend § 47.9 by revising paragraph (b) to read as follows:

§ 47.9 Corporations not US citizens.

* * * * *

(b) For the purposes of registration, an aircraft is based and primarily used in the United States if the flight hours accumulated within the United States amount to at least 60 percent of the total flight hours of the aircraft during the period consisting in the remainder of the registration month and the succeeding 6 calendar months and each 6 calendar month period thereafter.

* * * * *

§ 47.19 [Amended]

31. Amend § 47.19 by removing the phrase “must be mailed to the Registry, Department of Transportation, Post Office Box 25504, Oklahoma City, Oklahoma 73125-0504, or delivered to the Registry at 6425 S. Denning Ave., Oklahoma City, Oklahoma 73169” and adding in its place the phrase “must be delivered to the Registry by a means acceptable to the Administrator”.

PART 49—RECORDING OF AIRCRAFT TITLES AND SECURITY DOCUMENTS

32. The authority citation for part 49 continues to read as follows:

Authority: 4 U.S.T. 1830; Pub. L. 108-297, 118 Stat. 1095 (49 U.S.C. 40101 note, 49 U.S.C. 44101 note); 49 U.S.C. 106(g), 40113-40114, 44101-44108, 44110-44113, 44704, 44713, 45302, 46104, 46301.

§ 49.1 [Amended]

33. Amend § 49.1 in paragraph (a)(2) by removing the number “750” and adding in their place the number “550”.

§ 49.11 [Amended]

34. Amend § 49.11 by removing the phrase “must be mailed to the FAA Aircraft Registry, Department of Transportation, Post Office Box 25504, Oklahoma City, Oklahoma 73125-0504, or delivered to the Registry at 6425 S. Denning Ave., Oklahoma City, Oklahoma 73169” and adding in its place the phrase “must be delivered to the Registry by a means acceptable to the Administrator”.

§ 49.13 [Amended]

35. Amend § 49.13 in paragraph (a) by removing the phrase “must be in ink” and adding in its place the phrase “must be signed in a manner acceptable to the Administrator”.

PART 60—FLIGHT SIMULATION TRAINING DEVICE INITIAL AND CONTINUING QUALIFICATION AND USE

36. The authority citation for part 60 continues to read as follows:

Authority: 49 U.S.C. 106(f), 106(g), 40113, and 44701; Public Law 111-216, 124 Stat. 2348 (49 U.S.C. 44701 note).

§ 60.5, § 60.7, § 60.9, § 60.11, § 60.13, § 60.14, § 60.15, § 60.16, § 60.17, § 60.19, § 60.21, § 60.23, § 60.25, § 60.27, § 60.29, § 60.31, § 60.37 [Amended]

37. Remove the word “NSPM” and add in its place the words “responsible Flight Standards office” wherever it appears in the following places:

a. § 60.5(c) and (d);

b. § 60.7(a)(2), (b)(3), (4), and (6), and (d)(2);

c. § 60.9(a), (b)(2), (c) introductory text, and (c)(3);

d. § 60.11(d);

e. § 60.13(a) and (c) through (f);

f. § 60.14;

g. § 60.15(a), (b)(1) through (3), (c)(1) introductory text, (c)(1)(i) and (ii), (f), (g) introductory text, (g)(6), (h), and (i);

h. § 60.16(a)(1)(i) through (iii), (a)(2)(i) and (ii), (b), and (c);

i. § 60.17(e) and (f);

j. § 60.19(b)(2) and (3);

k. § 60.21(a) introductory text, (b), and (c);

l. § 60.23(c)(1) introductory text and (c)(1)(i) through (iv);

m. § 60.25(b);

n. § 60.27(b)(1)(i) and (ii), (b)(2), and (c);

o. § 60.29(a) introductory text, (a)(1) through (3), (a)(4) introductory text, (a)(4)(i) and (ii), (b) introductory text, (b)(3), (c) introductory text, (c)(1) and (2), (d)(1) and (2), and (e);

p. § 60.31(b); and

q. § 60.37(a) introductory text.

§ 60.5 [Amended]

38. Amend § 60.5 in paragraph (a) by removing the words “National Simulator Program Manager (NSPM)” and adding in their place the words “responsible Flight Standards office”.

§ 60.19 [Amended]

39. Amend § 60.19 as follows:

a. Amend paragraph (b)(4) by removing the first instance of the word “NSPM” and adding in its place the words “the responsible Flight Standards office”;

b. Amend paragraph (b)(4) by removing the second instance of the word “NSPM” and adding in its place the words “responsible Flight Standards office”; and

c. Amend paragraph (b)(6) by removing the words “an NSPM” and adding in its place the words “a responsible Flight Standards office”.

40. In appendix A to part 60:

a. In the introductory “Begin Information” text, remove the phrase “NSPM, or a person assigned by the NSPM,” and add in its place the words “responsible Flight Standards office”.

b. In section 1:

i. Remove and reserve paragraph b;

ii. Remove the last sentence of paragraph c;

iii. In paragraph d.(12), add the words “Flightcrew Member” after “as amended,”; and

iv. Revise paragraph d.(27).

c. In section 11:

i. In paragraph o. introductory text, remove the words “an NSP pilot” and add in its place the words, “a pilot from the responsible Flight Standards office” and remove the second instance of the word “NSP”;

ii. In paragraph r.(1), remove the word “NSP”; and

iii. In paragraph v., remove the phrase “NSPM or visit the NSPM website” and add in its place the words, “responsible Flight Standards office”.

d. In attachment 1, revise table A1A;

e. In attachment 2:

i. Revise table A2A;

ii. In section 8, in the first instance of paragraph d., remove the word “NSPM” and add in its place the words “the responsible Flight Standards office”; and

iii. In table A2E, revise the entries for 1.a.2, 2.a.1.a., 2.a.2.a., and 2.a.3.a.

f. In attachment 3:

i. In section 2, remove the last sentence of paragraph g; and

ii. Revise the table A3C introductory text.

g. In attachment 4, revise figures A4A, A4C, A4D, and A4E;

h. In attachment 6, FTSD Directive 2:

i. In the undesignated paragraph following summary paragraph (e), remove the words “National Simulator Program Manager (NSPM)” and add in their place the words “responsible Flight Standards office”.

ii. Remove the phrase “For Further Information Contact” paragraph before the heading “Specific Requirements”;

iii. In section I, paragraph 5 introductory text, remove the word “NSP's”;

iv. In section II, paragraph 5 introductory text, remove the word “NSP's”;

v. In section III, paragraph 5 introductory text, remove the word “NSP's”;

vi. In section IV, paragraph 4 introductory text, remove the word “NSP's”; and

vii. In section V, paragraph 4 introductory text, remove the word “NSP's”.

i. Remove the word “NSPM” and adding in its place the words “responsible Flight Standards office” in the following places:

i. Section 1, paragraph c, the first two instances;

ii. Section 9, paragraphs d., d.(1), d.(2), g., h., and i.;

iii. Section 10, paragraph a.;

iv. Section 11, paragraphs b.(2), b.(3), d., f., g.(1), h., j. k., l., m., n., n.(2), o., p. q., r.(2), s., t., and w.;

v. Section 13, paragraphs a.(1), a.(3), a.(4), a.(5), d., and i.;

vi. Section 14, paragraphs a., d., e., and e.(1);

vii. Section 17, paragraphs b.(1) and b.(2);

viii. Sections 19 and 20;

ix. Attachment 2, section 2, paragraphs a., h., j., k., and l.;

x. Attachment 2, section 4, the second instance in paragraph b.(1);

xi. Attachment 2, section 5, paragraph b.;

xii. Attachment 2, section 8, paragraphs b., c., the second instance of d., f., and g.;

xiii. Attachment 2, section 9, paragraphs a., b. introductory text, b.(2), and c.(2)(i);

xiv. Attachment 2, section 12, paragraph a.;

xv. Attachment 2, section 13, paragraph b.(6);

xvi. Attachment 2, section 14, paragraph b.(4)(d);

xvii. Attachment 2, section 16, paragraphs a.(2) and b.(2);

xviii. Attachment 2, section 17, paragraphs c., d.(2), e., and f.;

xix. Attachment 3, section 1, paragraphs f., and g.;

xx. Attachment 3, section 2, paragraphs, b., and f.;

xxi. Attachment 5, section 7, paragraph a;

xxii. Attachment 5, section 8, introductory text and paragraph c.;

xxiii. Attachment 6, FSTD Directive 2, section I, paragraphs 5 and 6;

xxiv. Attachment 6, FSTD Directive 2, section II, paragraphs 3, 5, and 6;

xxv. Attachment 6, FSTD Directive 2, section III, paragraphs 3, 5, and 6;

xxvi. Attachment 6, FSTD Directive 2, section IV, paragraphs 4 and 5; and

xxii. Attachment 6, FSTD Directive 2, section V, paragraphs 4 and 5;

i. Remove the word “NSPM”, and add in its place the words “Flight Standards Service” in the following places:

i. The introductory “Begin Information” text; and

ii. The first instance in attachment 2, section 4, paragraph b.(1).

j. Remove the word “NSP” from the following places:

i. Section 14, paragraph g.; and

ii. Attachment 3, paragraph 2.d.

The revisions read as follows:

Appendix A to Part 60—Qualification Performance Standards for Airplane Full Flight Simulators

* * * * *

1. Introduction

(d) * * *

(27) FAA Airman Certification Standards and Practical Test Standards for Airline Transport Pilot, Type Ratings, Commercial Pilot, and Instrument Ratings

* * * * *

Attachment 1 * * *

* * * * *

Attachment 2 * * *

* * * * *

* * * * *

Attachments 3 * * *

* * * * *

Attachment 4 * * *

Attachment 4 to Appendix A to Part 60—Figure A4A—Sample Letter, Request for Initial, Upgrade, or Reinstatement Evaluation

Information

Attachment 4 to Appendix A to Part 60—FigureA4C—Sample Letter of Compliance

Information

Attachment 4 to Appendix A to Part 60—Figure A4D—Sample Qualification Test Guide Cover Page

INFORMATION

Attachment 4 to Appendix A to Part 60—Figure A4E—Sample Statement of Qualification—Certificate

INFORMATION

* * * * *

41. In appendix B to part 60:

a. In the introductory “Begin Information” text:

i. In the first sentence, remove “or Level 6” and in its place add “Level 6, or Level 7”;

ii. In the second sentence, remove “, NSPM,”;

iii. In the last sentence, remove the phrase “NSPM, or a person or persons assigned by the NSPM” and add in its place the words “responsible Flight Standards office”.

b. In section 1:

i. Remove and reserve paragraph b.;

ii. Remove the last sentence of paragraph c.;

iii. In paragraph d.(12), add the words “Flightcrew Member” after “as amended,”; and

iv. Revise paragraph d.(26).

c. In section 11:

i. In paragraph o. introductory text, remove the words “an NSP pilot” and add in their place the phrase “a pilot from the responsible Flight Standards office” and remove second instance of the word “NSP”;

ii. In paragraph r.(1), remove the word “NSP”; and

iii. In paragraph v., remove the phrase “NSPM or visit the NSPM website” and add in its place the words “responsible Flight Standards office”.

d. In attachment 1, revise table B1A;

e. In attachment 2:

i. Revise table B2A;

ii. In section 4.b., remove the word “NSP” and add in its place the word “FAA”; and

iii. In table B2F, revise entries 2.a.1.a., 2.a.2.a., and 2.a.3.a.;

f. In attachment 3, revise table B3C;

g. In attachment 4:

i. In the table of contents, revise the entry for Figure B4H to read “[Reserved]”;

ii. Revise figures B4A, B4C, B4D, and B4E;

iii. Remove and reserve figure B4H;

h. Remove the word “NSPM” and in its place add the words “responsible Flight Standards office” in the following places:

i. Section 1. Introduction, paragraph c., first two instances;

ii. Section 9. FTD Objective Data Requirements, paragraphs d., d.(1), d.(2), g., h. and i.;

iii. Section 10. Special Equipment and Personnel Requirements for Qualification of the FTD, paragraph a;

iv. Section 11. Initial (and Upgrade) Qualification Requirements, paragraphs b.(2), b.(3), d., f., g.(1), h., j., k., l., m., n., n.(2), o., p., q., r.(2), s., t., and w.;

v. Section 13. Previously Qualified FTDs, paragraphs a.(1), a.(3), a.(4), a.(5), d., and i.;

vi. Section 14. Inspection, Continuing Qualification Evaluation, and Maintenance Requirements, paragraphs a., d., and h.;

vii. Section 17. Modifications to FTDs, paragraphs b.(1) and b.(2);

viii. Section 19. Automatic Loss of Qualification and Procedures for Restoration of Qualification;

ix. Section 20. Other Losses of Qualification and Procedures for Restoration of Qualification; Section

x. Attachment 2, section 2. Test Requirements, paragraphs a., h., j., k., and l.; and

xi. Attachment 2, section 5. Alternative Data Sources, Procedures, and Instrumentation: Level 6 FTD Only, paragraphs c., d.(2), and e.

n. Remove the word “NSP” in the following places:

i. Section 14, paragraph f; and

ii. Attachment 3, paragraphs 1.b, and 1.c.

The revisions read as follows:

Appendix B to Part 60 Qualification Performance Standards for Airplane Flight Training Devices

* * * * *

1. Introduction

* * * * *

d. * * *

26. FAA Airman Certification Standards and Practical Test Standards for Airline Transport Pilot, Type Ratings, Commercial Pilot, and Instrument Ratings.

* * * * *

Attachment 1 to Appendix B to Part 60—General FTD REQUIREMENTS

* * * * *

* * * * *

Attachment 2 to Appendix B to Part 60—Flight Training Device (FTD) Objective Tests

* * * * *

* * * * *

* * * * *

Attachment 3 to Appendix B to Part 60—Flight Training Device (FTD) Subjective Evaluation

* * * * *

* * * * *

Attachment 4 to Appendix B to Part 60—Sample Documents

* * * * *

Attachment 4 to Appendix B to Part 60—Figure B4A—Sample Letter, Request for Initial, Upgrade, or Reinstatement Evaluation

Information

* * * * *

Attachment 4 to Appendix B to Part 60—Figure B4C—Sample Letter of Compliance

Information

Attachment 4 to Appendix B to Part 60—Figure B4D—Sample Qualification Test Guide Cover Page

Information

* * * * *

Attachment 4 to Appendix B to Part 60— Figure B4E—Sample Statement of Qualification—Certificate

Information

* * * * *

42. In appendix C to part 60:

a. In the introductory “Begin Information” text:

i. Remove the word “NSPM” and add in its place the words “Flight Standards Service” in the first sentence; and

ii. In the last sentence, remove the phrase “NSPM, or a person assigned by the NSPM,” and add in its place the words “responsible Flight Standards office”.

b. In section 1:

i. Remove and reserve paragraph b.;

ii. Remove the last sentence of paragraph c.;

iii. In paragraph d.(10), add the words “Flightcrew Member” after “as amended,”; and

iv. Revise paragraph d.(25).

c. In section 11:

i. In paragraph o. introductory text, remove the words “an NSP pilot” and add in their place the words “a pilot from the responsible Flight Standards office” and remove the word “NSP”;

ii. In paragraph r.(1), remove the word “NSP”; and

iii. In paragraph v., remove the phrase “NSPM or visit the NSPM website” and add in its place the words “responsible Flight Standards office”.

d. In attachment 1, in table C1A, revise the entries for 4.a., 6.c., 6.d., and 6.u.;

e. In attachment 2:

i. In section 8, paragraph d., remove the first instance of the word “NSPM” and add in its place the words “the responsible Flight Standards office”;

ii. In table C2A, revise the entries for 1.j.4., 2.a., and 4.a.2;

iii. In table C2E, revise the entry for 1.b.2.;

f. In attachment 3:

i. In section 2, in the first paragraph (h), remove the last sentence and redesignate the second paragraph h. and paragraph i. as paragraphs i. and j, respectively; and

ii. In table C3C, revise the introductory text.

g. In attachment 4:

i. Revise the table of contents entry for Figure C4H to read “Figure C4H [Reserved]”;

ii. Revise figures C4A C4C, C4D, and C4E; and

iii. Remove and reserve figure C4H.

h. Remove the word “NSPM” and in its place add the words “responsible Flight Standards office” in the following places:

i. Section 1, paragraph c., the first two instances;

ii. Section 9, paragraphs d., d.(1), d.(2), g., h., and i.;

iii. Section 10, paragraph a;

iv. Section 11, paragraphs b.(2), b.(3), d., e.(2), f., g.(1), h., j. k., l., m., n., n.(2), o., p., q., r.(2), s., t., and w.;

v. Section 13, paragraphs a.(1), a.(3), a.(4), a.(5), d., and i.;

vi. Section 14, paragraphs a., d., e., and e.(1);

vii. Section 17, paragraphs b.(1) and b.(2);

viii. Section 19;

ix. Section 20;

x. Attachment 2, section 1, paragraph b.;

xi. Attachment 2, section 2, paragraphs a., h., j., k., and l.;

xii. Attachment 2, section 4, paragraph b.(1);

xiii. Attachment 2, section 6, paragraph d.(2);

xiv. Attachment 2, section 8, paragraphs b., c., the second instance of d., f., and g.;

xv. Attachment 2, section 9, paragraphs a., b., b.(2) and c.(2)(i);

xvi. Attachment 2, section 12, paragraph a.;

xvii. Attachment 2, section 14, paragraph b.(4)(d);

xviii. Attachment 2, section 16, paragraphs a.(2) and b.(2);

xix. Attachment 2, section 17, paragraphs c., d.(2), e., and g.;

xx. Attachment 3, section 1, paragraphs f. and g.; and

xxi. Attachment 3, section 2, paragraph b.

i. In appendix C to part 60, remove the word “NSP” from the following places:

i. Section 14, paragraph g.; and

ii. Attachment 3, paragraphs 2.d. and 2.f.

The revisions read as follows:

Appendix C to Part 60 Qualification Performance Standards for Helicopter Full Flight Simulators

* * * * *

1. Introduction

* * * * *

d. * * *

(25) FAA Airman Certification Standards and Practical Test Standards for Airline Transport Pilot, Type Ratings, Commercial Pilot, and Instrument Ratings.

* * * * *

Attachment 1 to Appendix C to Part 60—General Simulator Requirements

* * * * *

* * * * *

Attachment 2 to Appendix C to Part 60—FFS Objective Tests

* * * * *

* * * * *

Attachment 3 to Appendix C to Part 60—Simulator Subjective Evaluation

* * * * *

* * * * *

Attachment 4 to Appendix C to Part 60—Figure C4A—Sample Letter, Request for Initial, Upgrade, or Reinstatement Evaluation

Information

* * * * *

Attachment 4 to Appendix C to Part 60—Figure C4C—Sample Letter of Compliance

Information

Attachment 4 to Appendix C to Part 60—Figure C4D—Sample Qualification Test Guide Cover Page

Information

Attachment 4 to Appendix C to Part 60—Figure C4E—Sample Statement of Qualification—Certificate

Information

* * * * *

43. In appendix D to part 60:

a. In the introductory “Begin Information” text:

i. Remove “NSPM” and add in its place the words “Flight Standards Service” in the first sentence; and

ii. Remove the phrase “NSPM, or a person or persons assigned by the NSPM” and add in its place the words “responsible Flight Standards office” in the last sentence.

b. In section 1:

i. Remove and reserve paragraph b.;

ii. Remove the last sentence of paragraph c.;

iii. In paragraph d.(12), add the words “Flightcrew Member” after “as amended,”; and

iv. Revise paragraph d.(28;

c. In section 11:

i. In paragraph o. introductory text, remove the words “an NSP pilot” and add in their place the words “a pilot from the responsible Flight Standards office” and remove the second instance of the word “NSP”;

ii. In paragraph r.(1), remove the word “NSP”; and

iii. In paragraph v., remove the phrase “NSPM or visit the NSPM website” and add in its place the words “responsible Flight Standards office”.

d. In section 17, paragraph c., remove the word “D4H” and add in its place the word “D4I”;

e. In attachment 1, in table D1A, revise the entry for 6.c.;

f. In attachment 2, in table D2A, revise the entries for 1.j.4. and 2.a.;

g. In attachment 3:

i. In section 1, paragraph g., remove the first instance of the word “NPSM” and add in its place the words “responsible Flight Standards office” and remove the last sentence; and

ii. Revise the introductory text to table D3C.

h. In attachment 4:

i. Remove the table of contents entry “Figure A4C Sample Letter of Compliance” and add in its place “Figure D4C Sample Letter of Compliance”;

ii. Revise the table of contents entry “Figure D4H Sample Continuing Qualification Evaluation Requirements Page” to read “Figure D4H [Reserved]”;

iii. Revise figures D4A, D4C, D4D, and D4E;

iv. Redesignate Figure A4H as Figure D4H; and

v. Remove and reserve newly redesignated Figure D4H.

i. Remove the word “NSPM” and in its place add the words “responsible Flight Standards office” in the following places:

i. Section 1, paragraph c., the first two instances;

ii. Section 9, paragraphs d., d.(1), d.(1)(a), g., h., and i.;

iii. Section 10, paragraph a.;

iv. Section 11, paragraphs b.(2), b.(3), d., e.(2), f., g.(1), h., j., k., l., m., n., n.(2), o., p., q., r.(2), s., t., and w.;

v. Section 13, paragraphs a.(1), a.(3), a.(4), a.(5), d., i., and j.;

vi. Section 14, paragraphs a., d., h.;

vii. Section 17, paragraphs b.(1) and (2);

viii. Section 19 and 20;

ix. Attachment 2, section 2, paragraphs a., h., i., j., and k.; and

x. Attachment 3, section 1, paragraph f.

j. In appendix D to part 60, remove the word “NSP” from the following places:

i. Section 14, paragraph f.; and

ii. Attachment 3, paragraphs 2.c. and 2.d.

Appendix D to Part 60 Qualification Performance Standards for Helicopter Flight Training Devices

* * * * *

1. Introduction

* * * * *

d. * * *

(28) FAA Airman Certification Standards and Practical Test Standards for Airline Transport Pilot, Type Ratings, Commercial Pilot, and Instrument Ratings.

* * * * *

Attachment 1 to Appendix D to Part 60—General FTD Requirements

* * * * *

* * * * *

Attachment 2 to Appendix D to Part 60—Flight Training Device (FTD) Objective Tests

* * * * *

* * * * *

Attachment 3 to Appendix D to Part 60—Flight Training Device (FTD) Subjective Evaluation

* * * * *

* * * * *

Attachment 4 to Appendix D to Part 60—Sample Documents

Table of Contents

* * * * *

Figure D4C Sample Letter of Compliance

* * * * *

Figure D4H [Reserved]

* * * * *

Attachment 4 to Appendix D to Part 60—Figure D4A—Sample Letter, Request for Initial, Upgrade, or Reinstatement Evaluation

Information

* * * * *

Attachment 4 to Appendix D to Part 60—Figure D4C—Sample Letter of Compliance

Information

Attachment 4 to Appendix D to Part 60—Figure D4D—Sample Qualification Test Guide Cover Page

Information

Attachment 4 to Appendix D to Part 60—Figure D4E—Sample Statement of Qualification—Certificate

Information

* * * * *

44. In appendix E to part 60:

a. Remove the word “NSPM” and in its place add the words “responsible Flight Standards office” in paragraphs a., b., d.(2), d.(3), e., f., g., h., h.(4), i.(1), j.(2)(b), and j.(4)(d).

b. Remove the word “NSPM” in paragraphs h.(1) and (2).

c. Remove paragraph i.(4).

d. Revise table E1.

The revision reads as follows:

Appendix E to Part 60 Qualification Performance Standards for Quality Management Systems for Flight Simulation Training Devices

* * * * *

Table E1—FSTD Quality Management System
Entry No. | QPS Requirement | Information (Reference)
E1.1. | A QMS manual that prescribes the policies, processes, or procedures outlined in this table | § 60.5(a).
E1.2. | A policy, process, or procedure specifying how the sponsor will identify deficiencies in the QMS | § 60.5(b).
E1.3. | A policy, process, or procedure specifying how the sponsor will document how the QMS program will be changed to address deficiencies | § 60.5(b).
E1.4. | A policy, process, or procedure specifying how the sponsor will address proposed program changes (for programs that do not meet the minimum requirements as notified by the responsible Flight Standards office) to the responsible Flight Standards office and receive approval prior to their implementation | § 60.5(c).
E1.5. | A policy, process, or procedure specifying how the sponsor will document that at least one FSTD is used within the sponsor's FAA-approved flight training program for the aircraft or set of aircraft at least once within the 12-month period following the initial or upgrade evaluation conducted by the responsible Flight Standards office and at least once within each subsequent 12-month period thereafter | § 60. 7(b)(5).
E1.6. | A policy, process, or procedure specifying how the sponsor will document that at least one FSTD is used within the sponsor's FAA-approved flight training program for the aircraft or set of aircraft at least once within the 12-month period following the first continuing qualification evaluation conducted by the responsible Flight Standards office and at least once within each subsequent 12-month period thereafter | § 60.7(b)(6).
E1.7. | A policy, process, or procedure specifying how the sponsor will obtain an annual written statement from a qualified pilot (who has flown the subject aircraft or set of aircraft during the preceding 12-month period) that the performance and handling qualities of the subject FSTD represents the subject aircraft or set of aircraft (within the normal operating envelope). Required only if the subject FSTD is not used in the sponsor's FAA-approved flight training program for the aircraft or set of aircraft at least once within the preceding 12-month period | § 60.5(b)(7) and § 60.7(d)(2).
E1.8. | A policy, process, or procedure specifying how independent feedback (from persons recently completing training, evaluation, or obtaining flight experience; instructors and check airmen using the FSTD for training, evaluation or flight experience sessions; and FSTD technicians and maintenance personnel) will be received and addressed by the sponsor regarding the FSTD and its operation | § 60.9(b)(1).
E1.9. | A policy, process, or procedure specifying how and where the FSTD SOQ will be posted, or accessed by an appropriate terminal or display, in or adjacent to the FSTD | § 60.9(b)(2).
E1.10. | A policy, process, or procedure specifying how the sponsor's management representative (MR) is selected and identified by name to the responsible Flight Standards office | § 60.9(c) and Appendix E, paragraph(d).
E1.11. | A policy, process, or procedure specifying the MR authority and responsibility for the following: | § 60.9(c)(2), (3), and (4).
E1.11.a. | Monitoring the on-going qualification of assigned FSTDs to ensure all matters regarding FSTD qualification are completed as required by this part |
E1.11.b. | Ensuring that the QMS is properly maintained by overseeing the QMS policies, practices, or procedures and modifying as necessary |
E1.11.c. | Regularly briefing sponsor's management on the status of the on-going FSTD qualification program and the effectiveness and efficiency of the QMS |
E1.11.d. | Serving as the primary contact point for all matters between the sponsor and the responsible Flight Standards office regarding the qualification of assigned FSTDs |
E1.11.e. | Delegating the MR assigned duties to an individual at each of the sponsor's locations, as appropriate |
E1.12. | A policy, process, or procedure specifying how the sponsor will: | § 60.13; QPS Appendices A, B, C, and D.
E1.12.a. | Ensure that the data made available to the responsible Flight Standards office (the validation data package) includes the aircraft manufacturer's flight test data (or other data approved by the responsible Flight Standards office) and all relevant data developed after the type certificate was issued (e.g., data developed in response to an airworthiness directive) if the data results from a change in performance, handling qualities, functions, or other characteristics of the aircraft that must be considered for flight crewmember training, evaluation, or experience requirements |
E1.12.b. | Notify the responsible Flight Standards office within 10 working days of becoming aware that an addition to or a revision of the flight related data or airplane systems related data is available if this data is used to program or operate a qualified FSTD |
E1.12.c. | Maintain a liaison with the manufacturer of the aircraft being simulated (or with the holder of the aircraft type certificate for the aircraft being simulated if the manufacturer is no longer in business), and if appropriate, with the person who supplied the aircraft data package for the FFS for the purposes of receiving notification of data package changes |
E1.13. | A policy, process, or procedure specifying how the sponsor will make available all special equipment and qualified personnel needed to conduct tests during initial, continuing qualification, or special evaluations | § 60.14.
E1.14. | A policy, process, or procedure specifying how the sponsor will submit to the responsible Flight Standards office a request to evaluate the FSTD for initial qualification at a specific level and simultaneously request the TPAA forward a concurring letter to the responsible Flight Standards office; including how the MR will use qualified personnel to confirm the following: | § 60.15(a)-(d); § 60.15(b); § 60.15(b)(i); § 60.15(b)(ii); § 60.15(b)(iii).
E1.14.a. | That the performance and handling qualities of the FSTD represent those of the aircraft or set of aircraft within the normal operating envelope |
E1.14.b. | The FSTD systems and sub-systems (including the simulated aircraft systems) functionally represent those in the aircraft or set of aircraft |
E1.14.c. | The flight deck represents the configuration of the specific type or aircraft make, model, and series aircraft being simulated, as appropriate |
E1.15. | A policy, process, or procedure specifying how the subjective and objective tests are completed at the sponsor's training facility for an initial evaluation | § 60.15(e).
E1.16. | A policy, process, or procedure specifying how the sponsor will update the QTG with the results of the FAA-witnessed tests and demonstrations together with the results of the objective tests and demonstrations after the responsible Flight Standards office completes the evaluation for initial qualification | § 60.15(h).
E1.17. | A policy, process, or procedure specifying how the sponsor will make the MQTG available to the responsible Flight Standards office upon request | § 60.15(i).
E1.18. | A policy, process, or procedure specifying how the sponsor will apply to the responsible Flight Standards office for additional qualification(s) to the SOQ | § 60.16(a); § 60.16(a)(1)(i); and § 60.16(a)(1)(ii).
E1.19. | A policy, process, or procedure specifying how the sponsor completes all required Attachment 2 objective tests each year in a minimum of four evenly spaced inspections as specified in the appropriate QPS | § 60.19(a)(1) QPS Appendices A, B, C, or D.
E1.20. | A policy, process, or procedure specifying how the sponsor completes and records a functional preflight check of the FSTD within the preceding 24 hours of FSTD use, including a description of the functional preflight | § 60.19(a)(2) QPS Appendices A, B, C, or D.
E1.21. | A policy, process, or procedure specifying how the sponsor schedules continuing qualification evaluations with the responsible Flight Standards office | § 60.19(b)(2).
E1.22. | A policy, process, or procedure specifying how the sponsor ensures that the FSTD has received a continuing qualification evaluation at the interval described in the MQTG | § 60.19(b)(5)-(6).
E1.23. | A policy, process, or procedure describing how discrepancies are recorded in the FSTD discrepancy log, including | § 60.19(c); § 60.19(c)(2)(i); § 60.19(c)(2)(ii).
E1.23.a. | A description of how the discrepancies are entered and maintained in the log until corrected |
E1.23.b. | A description of the corrective action taken for each discrepancy, the identity of the individual taking the action, and the date that action is taken |
E1.24. | A policy, process, or procedure specifying how the discrepancy log is kept in a form and manner acceptable to the Administrator and kept in or adjacent to the FSTD. (An electronic log that may be accessed by an appropriate terminal or display in or adjacent to the FSTD is satisfactory.) | § 60.19(c)(2)(iii).
E1.25. | A policy, process, or procedure that requires each instructor, check airman, or representative of the Administrator conducting training, evaluation, or flight experience, and each person conducting the preflight inspection, who discovers a discrepancy, including any missing, malfunctioning, or inoperative components in the FSTD, to write or cause to be written a description of that discrepancy into the discrepancy log at the end of the FSTD preflight or FSTD use session | § 60.20.
E1.26. | A policy, process, or procedure specifying how the sponsor will apply for initial qualification based on the final aircraft data package approved by the aircraft manufacturer if operating an FSTD based on an interim qualification | § 60.21(c).
E1.27. | A policy, process, or procedure specifying how the sponsor determines whether an FSTD change qualifies as a modification as defined in § 60.23 | § 60.23(a)(1)-(2).
E1.28. | A policy, process, or procedure specifying how the sponsor will ensure the FSTD is modified in accordance with any FSTD Directive regardless of the original qualification basis | § 60.23(b).
E1.29. | A policy, process, or procedure specifying how the sponsor will notify the responsible Flight Standards office and TPAA of their intent to use a modified FSTD and to ensure that the modified FSTD will not be used prior to: | § 60.23(c)(1)(i),(ii), and (iv).
E1.29.a. | Twenty-one days since the sponsor notified the responsible Flight Standards office and the TPAA of the proposed modification and the sponsor has not received any response from either the responsible Flight Standards office or the TPAA; or |
E1.29.b. | Twenty-one days since the sponsor notified the responsible Flight Standards office and the TPAA of the proposed modification and one has approved the proposed modification and the other has not responded; or |
E1.29.c. | The FSTD successfully completing any evaluation the responsible Flight Standards office may require in accordance with the standards for an evaluation for initial qualification or any part thereof before the modified FSTD is placed in service |
E1.30 | A policy, process, or procedure specifying how, after an FSTD modification is approved by the responsible Flight Standards office, the sponsor will: | § 60.23(d)-(e).
E1.30.a. | Post an addendum to the SOQ until as the responsible Flight Standards office issues a permanent, updated SOQ |
E1.30.b. | Update the MQTG with current objective test results and appropriate objective data for each affected objective test or other MQTG section affected by the modification |
E1.30.c. | File in the MQTG the requirement from the responsible Flight Standards office to make the modification and the record of the modification completion |
E1.31. | A policy, process, or procedure specifying how the sponsor will track the length of time a component has been missing, malfunctioning, or inoperative (MMI), including: | § 60.25(b)-(c), and QPS Appendices A, B, C, or D.
E1.31.a. | How the sponsor will post a list of MMI components in or adjacent to the FSTD |
E1.31.b. | How the sponsor will notify the responsible Flight Standards office if the MMI has not been repaired or replaced within 30 days.* |
E1.32. | A policy, process, or procedure specifying how the sponsor will notify the responsible Flight Standards office and how the sponsor will seek requalification of the FSTD if the FSTD is moved and reinstalled in a different location | § 60.27(a)(3).
E1.33. | A policy, process, or procedure specifying how the sponsor will maintain control of the following: (The sponsor must specify how these records are maintained in plain language form or in coded form; but if the coded form is used, the sponsor must specify how the preservation and retrieval of information will be conducted.) | § 60.31.
E1.33.a. | The MQTG and each amendment |
E1.33.b. | A record of all FSTD modifications required by this part since the issuance of the original SOQ |
E1.33.c. | Results of the qualification evaluations (initial and each upgrade) since the issuance of the original SOQ |
E1.33.d. | Results of the objective tests conducted in accordance with this part for a period of 2 years |
E1.33.e. | Results of the previous three continuing qualification evaluations, or the continuing qualification evaluations from the previous 2 years, whichever covers a longer period. |
E1.33.f. | Comments obtained in accordance with § 60.9(b); |
E1.33.g. | A record of all discrepancies entered in the discrepancy log over the previous 2 years, including the following: |
E1.33.g.1. | A list of the components or equipment that were or are missing, malfunctioning, or inoperative |
E1.33.g.2. | The action taken to correct the discrepancy |
E1.33.g.3. | The date the corrective action was taken |
E1.33.g.4. | The identity of the person determining that the discrepancy has been corrected. |
* Note: If the sponsor has an approved discrepancy prioritization system, this item is satisfied by describing how discrepancies are prioritized, what actions are taken, and how the sponsor will notify the responsible Flight Standards office if the MMI has not been repaired or replaced within the specified timeframe.

Appendix F to Part 60—[Amended]

45. In appendix F to part 60:

a. In section 2, remove the word “NSPM” and in its place add the words “responsible Flight Standards office” and remove the phrase “National Simulator Program Manager (NSPM)—the FAA manager responsible for the overall administration and direction of the National Simulator Program (NSP), or a person approved by that FAA manager.”; and

b. In section 3, remove the phrase “NSPM National Simulator Program Manager”.

PART 61—CERTIFICATION: PILOTS, FLIGHT INSTRUCTORS, AND GROUND INSTRUCTORS

46. The authority citation for part 61 continues to read as follows:

Authority: 49 U.S.C. 106(f), 106(g), 40113, 44701-44703, 44707, 44709-44711, 44729, 44903, 45102-45103, 45301-45302; Sec. 2307 Pub. L. 114-190, 130 Stat. 615 (49 U.S.C. 44703 note).

§ 61.58 [Amended]

47. Amend § 61.58 by removing paragraphs (j) and (k).

§ 61.313 [Amended]

48. Amend § 61.313 in paragraph (h)(1) by removing the word “light” and adding in its place the word “flight”.

PART 67—MEDICAL STANDARDS AND CERTIFICATION

49. The authority citation for part 67 continues to read as follows:

Authority: 49 U.S.C. 106(g), 40113, 44701-44703, 44707, 44709-44711, 45102-45103, 45301-45303.

§ 67.4 [Amended]

50. Amend § 67.4 in paragraph (b) by removing the numbers “26200” and adding in their place the numbers “25082”.

§ 67.409 [Amended]

51. Amend § 67.409 in paragraph (a) by removing the phrase “and in duplicate” and by removing the numbers “26080” and adding in their place the numbers “25082”.

PART 73—SPECIAL USE AIRSPACE

52. The authority citation for part 73 continues to read as follows:

Authority: 49 U.S.C. 106(f), 106(g), 40103, 40113, 40120; E.O. 10854, 24 FR 9565, 3 CFR, 1959-1963 Comp., p. 389.

53. Amend § 73.19 by revising paragraphs (a), (b) introductory text, and (c) to read as follows:

§ 73.19 Reports by using agency.

(a) Each using agency must prepare a report on the use of each restricted area assigned thereto during any part of the preceding 12-month period ended September 30, and transmit it by the following January 31 of each year to the Manager, Operations Support Group in the ATO Service Center office of the Federal Aviation Administration having jurisdiction over the area in which the restricted area is located, with a copy to the Manager, Airspace Policy Group, Federal Aviation Administration, 800 Independence Avenue SW, Washington, DC 20591.

(b) In the report under this section the using agency must:

* * * * *

(c) If it is determined that the information submitted under paragraph (b) of this section is not sufficient to evaluate the nature and extent of the use of a restricted area, the FAA may request the using agency to submit supplementary reports. Within 60 days after receiving a request for additional information, the using agency must submit such information as the FAA Service Center Operations Support Group Manager considers appropriate. Supplementary reports must be sent to the FAA officials designated in paragraph (a) of this section.

PART 91—GENERAL OPERATING AND FLIGHT RULES

54. The authority citation for part 91 continues to read as follows:

Authority: 49 U.S.C. 106(f), 106(g), 40101, 40103, 40105, 40113, 40120, 44101, 44111, 44701, 44704, 44709, 44711, 44712, 44715, 44716, 44717, 44722, 46306, 46315, 46316, 46504, 46506-46507, 47122, 47508, 47528-47531, 47534, Pub. L. 114-190, 130 Stat. 615 (49 U.S.C. 44703 note); articles 12 and 29 of the Convention on International Civil Aviation (61 Stat. 1180), (126 Stat. 11).

§ 91.9 [Amended]

55. Amend § 91.9 in paragraph (c) by removing the phrase “part 45” and adding in its place the phrase “part 45 or 48”.

§ 91.157 [Amended]

56. Amend § 91.157 in paragraph (b)(4) introductory text by adding the word “less” after the phrase “6 degrees or” and by removing the word “more” before the phrase “below the horizon”.

§ 91.203 [Amended]

57. Amend § 91.203 in paragraph (a)(1) by removing the phrase “part 47” and adding in its place the phrase “part 47 or 48”.

§ 91.511 [Amended]

58. Amend § 91.511 in paragraph (a) introductory text by adding the words “operating under this subpart” after the word “person” in the first sentence.

§ 91.609 [Amended]

59. Amend § 91.609 in paragraph (g) by adding the words “49 CFR” before both instances of the words “part 830”.

§ 91.1001 [Amended]

60. Amend § 91.1001 in paragraph (b)(9) by removing “(b)(1)(v)” and adding in its place “(b)(5)(vi)”.

PART 97—STANDARD INSTRUMENT PROCEDURES

61. The authority citation for part 97 continues to read as follows:

Authority: 49 U.S.C. 106(f), 106(g), 40103, 40106, 40113, 40114, 40120, 44502, 44514, 44701, 44719, and 44721-44722.

§ 97.20 [Amended]

62. Amend § 97.20 in paragraph (b) by:

a. Removing the phrase “FAA's Rules Docket (AGC-200) and at the National Flight Data Center, 800 Independence Avenue SW., Washington, DC 20590” and adding in its place the phrase “U.S. Department of Transportation, Docket Operations, 1200 New Jersey Avenue SE, West Building Ground Floor, Room W12-140, Washington, DC 20590, and at Aeronautical Information Services, 1305 East-West Highway, Silver Spring, MD 20910”; and

b. Removing the phrase “call 202-741-6030” and adding in its place the words phrase “email: fedreg.legal@nara.gov”.

PART 101—MOORED BALLOONS, KITES, AMATEUR ROCKETS, UNMANNED FREE BALLOONS

63. The authority citation for part 101 continues to read as follows:

Authority: 49 U.S.C. 106(f), 106(g), 40101 note, 40103, 40113-40114, 45302, 44502, 44514, 44701-44702, 44721, 46308.

§ 101.21 [Amended]

64. Amend § 101.21 in paragraph (a) by removing citation “§ 101.25(b)(7)(ii)” and adding in its place citation “§ 101.25(g)(2)”.

PART 107—SMALL UNMANNED AIRCRAFT SYSTEMS

65. The authority citation for part 107 continues to read as follows:

Authority: 49 U.S.C. 106(f), 40101 note, 40103(b), 44701(a)(5), 44807.

66. Revise the heading for § 107.9 to read as follows:

§ 107.9 Safety event reporting.

* * * * *

PART 121—OPERATING REQUIREMENTS: DOMESTIC, FLAG, AND SUPPLEMENTAL OPERATIONS

67. The authority citation for part 121 continues to read as follows:

Authority: 49 U.S.C. 106(f), 106(g), 40103, 40113, 40119, 41706, 42301 preceding note added by Pub. L. 112-95, sec. 412, 126 Stat. 89, 44101, 44701-44702, 44705, 44709-44711, 44713, 44716-44717, 44722, 44729, 44732; 46105; Pub. L. 111-216, 124 Stat. 2348 (49 U.S.C. 44701 note); Pub. L. 112-95 126 Stat 62 (49 U.S.C. 44732 note).

§ 121.310 [Amended]

68. Amend § 121.310 in paragraph (b)(2)(iii) by removing the words “turbopropeller powered” and adding in their place the words “turbopropeller-powered”.

§ 121.311 Seats, safety belts, and shoulder harnesses. [Amended]

69. Amend § 121.311 in paragraph (b)(2)(ii)(C) introductory text by removing the citation “(B)(2)(ii)(A)” and adding in its place the citation “(b)(2)(ii)(A)”.

§ 121.359 [Amended]

70. Amend § 121.359 in paragraph (h) by adding the phrase “49 CFR” before both instances of the phrase “part 830”.

§ 121.391 [Amended]

71. Amend § 121.391 in paragraph (d) by removing the word “exists” and adding in its place the word “exits”.

§ 121.523 [Amended]

72. Amend § 121.523 in paragraph (c) by removing the second instance of the word “duty” in the third sentence and adding in its place the word “during”.

§ 121.703 [Amended]

73. Amend § 121.703 in paragraph (f) by removing the citation “14 CFR part 830” and adding in its place the citation “49 CFR part 830”.

§ 121.909 [Amended]

74. Amend § 121.909 in paragraph (a) by removing the phrase “made, through the FAA office responsible for approval of the certificate holder's operations specifications, to the Manager of the Air Transportation Division” and adding in its place the phrase “made to the responsible Flight Standards office”.

§ 121.923 [Amended]

75. Amend § 121.923 in paragraph (a)(2) by removing the phrase “made, through the FAA office directly responsible for oversight of the training provider, to the Manager of the Air Transportation Division” and adding in its place the phrase “made to the responsible Flight Standards office”.

76. Amend § 121.1115 by revising table 2 to read as follows:

§ 121.1115 Limit of validity.

* * * * *

Table 2—Airplanes Excluded From § 26.21
Airplane model | Default LOV [flight cycles (FC) or flight hours (FH)]
Airbus:
Caravelle | 15,000 FC/24,000 FH
Avions Marcel Dassault:
Breguet Aviation Mercure 100C | 20,000 FC/16,000 FH
Boeing:
Boeing 707 (-100 Series and -200 Series) | 20,000 FC
Boeing 707 (-300 Series and -400 Series) | 20,000 FC
Boeing 720 | 30,000 FC
Bombardier:
CL-44D4 and CL-44J | 20,000 FC
BD-700 | 15,000 FC
Bristol Aeroplane Company:
Britannia 305 | 10,000 FC
British Aerospace Airbus, Ltd.:
BAC 1-11 (all models) | 85,000 FC
British Aerospace (Commercial Aircraft) Ltd.:
Armstrong Whitworth Argosy A.W. 650 Series 101 | 20,000 FC
BAE Systems (Operations) Ltd.:
BAe 146-100A (all models) | 50,000 FC
BAe 146-200-07 | 50,000 FC
BAe 146-200-07 Dev | 50,000 FC
BAe 146-200-11 | 50,000 FC
BAe 146-200-07A | 47,000 FC
BAe 146-200-11 Dev | 43,000 FC
BAe 146-300 (all models) | 40,000 FC
Avro 146-RJ70A (all models) | 40,000 FC
Avro 146-RJ85A and 146-RJ100A (all models) | 50,000 FC
D & R Nevada, LLC:
Convair Model 22 | 1,000 FC/1,000 FH
Convair Model 23M | 1,000 FC/1,000 FH
deHavilland Aircraft Company, Ltd.:
D.H. 106 Comet 4C | 8,000 FH
Gulfstream:
GV | 40,000 FH
GV-SP | 40,000 FH
Ilyushin Aviation Complex:
IL-96T | 10,000 FC/30,000 FH
Lockhead:
300-50A01(USAF C 141A) | 20,000 FC

* * * * *

PART 125— CERTIFICATION AND OPERATIONS: AIRPLANES HAVING A SEATING CAPACITY OF 20 OR MORE PASSENGERS OR A MAXIMUM PAYLOAD CAPACITY OF 6,000 POUNDS OR MORE; AND RULES GOVERNING PERSONS ON BOARD SUCH AIRCRAFT

77. The authority citation for part 125 continues to read as follows:

Authority: 49 U.S.C. 106(f), 106(g), 40113, 44701-44702, 44705, 44710-44711, 44713, 44716-44717, 44722.

§ 125.285 [Amended]

78. Amend § 125.285 in paragraph (d) by removing the citation “(c)(3)” and adding in its place the citation “(c)(2)”.

PART 129—OPERATIONS: FOREIGN AIR CARRIERS AND FOREIGN OPERATORS OF U.S.-REGISTERED AIRCRAFT ENGAGED IN COMMON CARRIAGE

79. The authority citation for part 129 continues to read as follows:

Authority: 49 U.S.C. 1372, 40113, 40119, 44101, 44701-44702, 44705, 44709-44711, 44713, 44716-44717, 44722, 44901-44904, 44906, 44912, 46105, Pub. L. 107-71 sec. 104.

§ 129.18 [Amended]

80. Amend § 129.18 in paragraph (b) introductory text by removing the word “or” and adding in its place the word “of”.

81. Amend § 129.115 by revising table 2 to read as follows:

§ 129.115 Limit of validity.

* * * * *

Table 2—Airplanes Excluded From § 26.21
Airplane model | Default LOV [flight cycles (FC) or flight hours (FH)]
Airbus:
Caravelle | 15,000 FC/24,000 FH
Avions Marcel Dassault:
Breguet Aviation Mercure 100C | 20,000 FC/16,000 FH
Boeing:
Boeing 707 (-100 Series and -200 Series) | 20,000 FC
Boeing 707 (-300 Series and -400 Series) | 20,000 FC
Boeing 720 | 30,000 FC
Bombardier:
CL-44D4 and CL-44J | 20,000 FC
BD-700 | 15,000 FC
Bristol Aeroplane Company:
Britannia 305 | 10,000 FC
British Aerospace Airbus, Ltd.:
BAC 1-11 (all models) | 85,000 FC
British Aerospace (Commercial Aircraft) Ltd.:
Armstrong Whitworth Argosy A.W. 650 Series 101 | 20,000 FC
BAE Systems (Operations) Ltd.:
BAe 146-100A (all models) | 50,000 FC
BAe 146-200-07 | 50,000 FC
BAe 146-200-07 Dev | 50,000 FC
BAe 146-200-11 | 50,000 FC
BAe 146-200-07A | 47,000 FC
BAe 146-200-11 Dev | 43,000 FC
BAe 146-300 (all models) | 40,000 FC
Avro 146-RJ70A (all models) | 40,000 FC
Avro 146-RJ85A and 146-RJ100A (all models) | 50,000 FC
D & R Nevada, LLC:
Convair Model 22 | 1,000 FC/1,000 FH
Convair Model 23M | 1,000 FC/1,000 FH
deHavilland Aircraft Company, Ltd.:
D.H. 106 Comet 4C | 8,000 FH
Gulfstream:
GV | 40,000 FH
GV-SP | 40,000 FH
Ilyushin Aviation Complex:
IL-96T | 10,000 FC/30,000 FH
Lockheed:
300-50A01 (USAF C 141A) | 20,000 FC

* * * * *

PART 135—OPERATING REQUIREMENTS: COMMUTER AND ON DEMAND OPERATIONS AND RULES GOVERNING PERSONS ON BOARD SUCH AIRCRAFT

82. The authority citation for part 135 continues to read as follows:

Authority: 49 U.S.C. 106(f), 106(g), 40113, 41706, 44701-44702, 44705, 44709, 44711-44713, 44715-44717, 44722, 44730, 45101-45105; Public Law 112-95, 126 Stat. 58 (49 U.S.C. 44730).

§ 135.415 [Amended]

83. Amend § 135.415 in paragraph (f) by adding the words “49 CFR” before the words “part 830”.

PART 141—PILOT SCHOOLS

84. The authority citation for part 141 continues to read as follows:

Authority: 49 U.S.C. 106(f), 106(g), 40113, 44701-44703, 44707, 44709, 44711, 45102-45103, 45301-45302.

85. Amend appendix I to part 141 by revising paragraph 4.(a)(3)(ii) and adding paragraphs 4.(i)(2)(i) and (ii) to read as follows:

Appendix I to Part 141—Additional Aircraft Category and/or Class Rating Course

* * * * *

4. Flight Training

(a) * * *

(3) * * *

(ii) Ten hours of training in a complex airplane, a turbine-powered airplane, or a technically advanced airplane that meets the requirements of § 61.129(j), or any combination thereof. The airplane must be appropriate to land or sea for the rating sought;

* * * * *

(i) * * *

(2) * * *

(i) Five training flights in a glider with a certificated flight instructor on the launch/tow procedures approved for the course and on the appropriate approved areas of operation listed in appendix D of part 141, paragraph 4.(d)(6); and

(ii) Three training flights in a glider with a certificated flight instructor in preparation for the practical test within 2 calendar months preceding the date of the test.

* * * * *

PART 183—REPRESENTATIVES OF THE ADMINISTRATOR

86. The authority citation for part 183 continues to read as follows:

Authority: 31 U.S.C. 9701; 49 U.S.C. 106(f), 106(g), 40113, 44702, 45303.

§ 183.11 [Amended]

87. Amend § 183.11 in paragraph (d) by:

a. Removing the words “Associate Administrator for Air Traffic” and adding in their place the words “Associate Administrator for Aviation Safety”; and

b. Adding the word “Designated” before the phrase “Air Traffic Control Tower Operator Examiners”.

88. Amend § 183.25 by revising paragraph (c) to read as follows:

§ 183.25 Technical personnel examiners.

* * * * *

(c) A designated air traffic control tower operator examiner may—

(1) Accept applications for, and conduct, written and practical tests necessary for issuing control tower operator certificates under part 65 of this chapter; and

(2) In the discretion of the Associate Administrator for Aviation Safety issue temporary control tower operator certificates to qualified applicants.

* * * * *

PART 440—FINANCIAL RESPONSIBILITY

89. The authority citation for part 440 continues to read as follows:

Authority: 51 U.S.C. 50901-50923.

90. Amend § 440.19 by adding paragraphs (a)(1) and (2) to read as follows:

§ 440.19 United States payment of excess third-party liability claims.

(a) * * *

(1) Exceeds the amount of insurance required under § 440.9(b); and

(2) Is not more than $1,500,000,000 (as adjusted for inflation occurring after January 1, 1989) above that amount.

* * * * *

Issued under authority provided by 49 U.S.C. 106(f), 44701(a), and 44703 in Washington, DC, on October 21, 2022.
Brandon Roberts,
Executive Director, Office of Rulemaking.

[FR Doc. 2022-23327 Filed 12-8-22; 8:45 am]

BILLING CODE 4910-13-P